DEPARTMENT OF TRANSPORTATION

Federal Aviation Administration

14 CFR Part 121 and 135

[Docket No. FAA-2000-7119; Amendment No. 121-281 and 135-80]

RIN 2120-AG89

Emergency Medical Equipment; Correction

AGENCY: Federal Aviation Administration (FAA), DOT.

ACTION: Final rule; correction.

SUMMARY: This document contains a correction to the final rule, published in the Federal Register on April 12, 2001 (66 FR 19028). That final rule responds to the Aviation Medical Assistance Act of 1998 by requiring that air carrier operators carry automated external defibrillators on large, passenger-carrying aircraft and augment currently required emergency medical kits.

FOR FURTHER INFORMATION CONTACT: Judi citrenbaum, (202) 267-9689.

Correction of Publication

In the final rule FR Doc. 01-8923, beginning on page 19028 in the Federal Register issue of April 12, 2001, make the following corrections:

1. On page 19028, in column 1, in the heading section, beginning on line 5, correct “Amendment No. 121-280 and 135-78” to read “Amendment Nos. 121-281 and 135-80”.

Issued in Washington, DC, on June 6, 2001.
Donald Byrne,
Assistant Chief Counsel, Regulations Division.

[FR Doc. 01-14657 Filed 6-8-01; 8:45 am]

BILLING CODE 4910-13-M